FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier—Ocean Transportation Intermediary

Hoya International Corp., 1921 Hanford Drive, Pasadena, CA 91104, Officer: Hung Fang, President/VP/Treasurer/Secretary, (Qualifying Individual).

Aviation Import/Export Inc. dba Aviation Import/Export, 614 S. 8th Street, Suite #339, Philadelphia, PA 19147, Officers: Henry E. Charlton, Director, (Qualifying Individual). David Gannon, President.

Banacle Enterprise LLC, 204-12 104 Avenue, St. Albans, NY 11412, Officers: Corny Francis, Manager, (Qualifying Individual). Patrick Turner, Member Manager.

Non-Vessel-Operating Common Carrier and Ocean Freight Forwarder Transportation Intermediary Applicants

Princess Cargo, 3225 Long Beach Blvd., #308, Long Beach, CA 90807, Officers: Tom Miller, Shipping Manager, Frank Krotzer, Secretary. (Qualifying Individuals)

AK Solutions, Inc., 10034 Halston Drive, Sugarland, TX 77498, Officer: Adnan Qureshi, President/Secretary. (Qualifying Individual)

Tri-Vi-U.S. Logistics Ltd., 147-35 Farmers Blvd., Jamaica, NY 11434, Officers: Yehudit Gabbay Turgeman, Vice President/Secretary. (Qualifying Individual) Uri Yaron, President.

Carlo Shipping International, Inc., 250 North Avenue East, Elizabeth, NJ 07201, Officer: Carlos E. Rodriguez, President/Secretary/Treasurer. (Qualifying Individual)

EB Logistics, LLC, 300 Colonial Center Parkway, Suite 100, Roswell, GA 30076, Officer: Edgar Bagdasaryan, President/CFO/Secretary. (Qualifying Individual)

Ascend Logistics LLC, 6 Emerald Court, Princeton Junction, NJ 08550, Yongpeng Jin, Owner. Officer: (Qualifying Individual)

World Commerce Services, LLC, 920 E. Algonquin, Schaumburg, IL 60173, Officer: David Duke, Director of Operations. (Qualifying Officer)

Eagle Maritime of America, 115 River Road, Edgewater, NJ 07020, Officer: Rajiv Dixit, President. (Qualifying Officer)

Ocean Freight Forwarder—Ocean Transportation Intermediary Applicants

Panamerican Shipping, Inc., 710 Franklin Avenue, Brooklyn, NY 11238, Officers: Lamar Bailey, President. (Qualifying Individual) Cristine Bailey, Vice President.

Royal Shipping Co., 11959 S. Cicero Avenue, Alsip, IL 60803, Officers: Hassan Hwajj, Vice President. (Qualifying Individual) Naser Alshoweat, President.

Dated: January 15, 2010.
Karen V. Gregory,
Secretary.

[FR Doc. 2010-1071 Filed 1-20-10; 8:45 am]

BILLING CODE 6730-01-P